ENVIRONMENTAL PROTECTION AGENCY

40 CFR Part 52

[EPA-R01-OAR-2012-0255; A-1-FRL-9749-8]

Approval and Promulgation of Air Quality Implementation Plans; New Hampshire; Reasonably Available Control Technology Update To Address Control Techniques Guidelines Issued in 2006, 2007, and 2008

AGENCY: Environmental Protection Agency (EPA).

ACTION: Direct final rule.

SUMMARY: EPA is approving a State Implementation Plan (SIP) revision submitted by the State of New Hampshire. The revision establishes Reasonably Available Control Technology (RACT) for several categories of volatile organic compound (VOC) sources. The intended effect of this action is to approve these requirements into the New Hampshire SIP. This action is being taken in accordance with the Clean Air Act.

DATES: This direct final rule will be effective January 7, 2013, unless EPA receives adverse comments by December 10, 2012. If adverse comments are received, EPA will publish a timely withdrawal of the direct final rule in the Federal Register informing the public that the rule will not take effect.

ADDRESSES: Submit your comments identified by Docket ID Number EPA-R01-OAR-2012-0255 by one of the following methods:

1. www.regulations.gov: Follow the on-line instructions for submitting comments.

2. Email: arnold.anne@epa.gov.

3. Fax: (617) 918-0047.

4. Mail: “Docket Identification Number EPA-R01-OAR-2012-0255,” Anne Arnold, Manager, Air Quality Planning Unit, Office of Ecosystem Protection, U.S. Environmental Protection Agency, EPA New England Regional Office, 5 Post Office Square—Suite 100, (Mail code OEP05-2), Boston, MA 02109-3912.

5. Hand Delivery or Courier. Deliver your comments to: Anne Arnold, Manager, Air Quality Planning Unit, Office of Ecosystem Protection, U.S. Environmental Protection Agency, EPA New England Regional Office, 5 Post Office Square—Suite 100, (Mail code OEP05-2), Boston, MA 02109-3912. Such deliveries are only accepted during the Regional Office's normal hours of operation. The Regional Office's official hours of business are Monday through Friday, 8:30 a.m. to 4:30 p.m., excluding legal holidays.

Instructions: Direct your comments to Docket ID Number EPA-R01-OAR-2012-0255. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, the state's submittal is available for public inspection during normal business hours, by appointment at the State Air Agency: Air Resources Division, Department of Environmental Services, P.O. Box 95, 29 Hazen Drive, Concord, NH 03302-0095.

FOR FURTHER INFORMATION CONTACT: David Mackintosh, Air Quality Planning Unit, U.S. Environmental Protection Agency, New England Regional Office, 5 Post Office Square—Suite 100, (Mail Code OEP05-02), Boston, MA 02109-3912, telephone 617-918-1584, facsimile 617-918-0584, email mackintosh.david@epa.gov.

SUPPLEMENTARY INFORMATION: Throughout this document whenever “we,” “us,” or “our” is used, we mean EPA.

Organization of this document. The following outline is provided to aid in locating information in this preamble.

I. What action is EPA taking?

II. What is the background for this action?

III. What is included in New Hampshire's submittal?

IV. What is EPA's evaluation of New Hampshire's submittal?

V. Final Action

VI. Statutory and Executive Order Reviews

I. What action is EPA taking?

EPA is approving New Hampshire's Chapter Env-A 1200 “Volatile Organic Compounds (VOCs) Reasonably Available Control Technology (RACT),” specifically PART Env-A 1201 through 1222, submitted by the New Hampshire Department of Environmental Services (NH DES) on July 26, 2011, as meeting RACT for the VOC source categories covered by the Control Technique Guidelines (CTGs) issued by EPA in 2006, 2007, and 2008. EPA is also approving negative declarations for the CTGs for which NH DES determined no applicable sources exist in New Hampshire.

II. What is the background for this action?

In 1997, EPA revised the health-based National Ambient Air Quality Standard (NAAQS) for ozone, setting it at 0.08 parts per million (ppm) averaged over an 8-hour time frame. EPA set the 8-hour ozone standard based on scientific evidence demonstrating that ozone causes adverse health effects at lower ozone concentrations and over longer periods of time than was understood when the pre-existing 1-hour ozone standard was set. EPA determined that the 8-hour standard would be more protective of human health, especially with regard to children and adults who are active outdoors, and individuals with a pre-existing respiratory disease, such as asthma.

On April 30, 2004, pursuant to the Federal Clean Air Act (the Act, or CAA), 42 U.S.C. 7401 et seq., EPA designated portions of the country as being in nonattainment of the 1997 8-hour ozone NAAQS (69 FR 23858). In New Hampshire, the Boston-Manchester-Portsmouth (SE), New Hampshire area was designated nonattainment for the 1997 ozone standard and classified as moderate, and the remainder of the state was designated as unclassifiable/attainment. New Hampshire is also part of the Ozone Transport Region (OTR) under Section 184(a) of the CAA. Sections 182(b)(2) and 184 of the CAA compel states with moderate and above ozone nonattainment areas, as well as areas in the OTR respectively, to submit a SIP revision requiring the implementation of RACT for sources covered by a CTG and for all major sources. A CTG is a document issued by EPA which establishes a “presumptive norm” for RACT for a specific VOC source category.

Furthermore, effective on May 27, 2008, EPA made further revisions to the ozone NAAQS setting the 8-hour standard at 0.075 ppm (73 FR 16436, March 27, 2008). Today's action does not address the requirements of the 2008 ozone NAAQS.

On October 5, 2006, EPA issued four new CTGs which states were required to address by October 5, 2007 (71 FR 58745). Then, on October 9, 2007, EPA issued three more CTGs which states were required to address by October 9, 2008 (72 FR 57215). Lastly, on October 7, 2008, EPA issued an additional four CTGs which states were required to address by October 7, 2009 (73 FR 58841). The State of New Hampshire submitted a SIP revision addressing all eleven CTGs on July 26, 2011.

III. What is included in New Hampshire's submittal?

New Hampshire's SIP revision consists of updates to VOC RACT requirements to address the eleven EPA CTGs issued in 2006 through 2008. New Hampshire adopted regulations for nine CTGs: Fiberglass boat manufacturing materials; flat wood paneling coatings; flexible package printing; industrial cleaning solvent; metal furniture coatings; miscellaneous industrial adhesives; miscellaneous metal and plastic parts coatings; offset lithographic printing and letterpress printing; and paper, film, and foil coatings. New Hampshire also submitted negative declarations for two CTGs: Automobile and light-duty truck assembly coatings; and large appliance coatings.

IV. What is EPA's evaluation of New Hampshire's submittal?

New Hampshire's Paper, Film, and Foil Coatings Rule, PART Env-A 1207, was previously approved by EPA on July 23, 2002 (67 FR 48033) and contained a general emissions limit of 0.35 kilograms of VOC per liter (kg VOC/l) of coating for facilities with actual emissions of 3 tons of VOC or more per year. The following are exempt: Application of a coating to vinyl or urethane coated fabric, or vinyl or urethane sheets; coating performed on or in-line with any offset lithographic, screen, letterpress, flexographic, rotogravure, or digital printing press; and size presses and on-machine coaters on papermaking machines that apply sizing, such as starch or water-base-clays. The revised regulation contains the same general emissions limit but now applies to a broader scope of activities consistent with EPA's CTG for Paper, Film, and Foil Coatings (EPA 453/R-07-003, September 2007). The regulation also includes additional requirements for facilities with a potential to emit 25 tons of VOC or more per year on or after January 1, 2016. These facilities must meet lower VOC coating limits or use pollution control equipment meeting 90% control efficiency. There are also updated work practices and recordkeeping requirements for all applicable facilities. New Hampshire's revised rule is consistent with the CTG and satisfies the anti-back sliding requirements in Section 110(l) of the CAA, since it applies to a broader scope of activities than the previously SIP-approved version of the rule.

The New Hampshire Metal Furniture Coatings Rule, PART Env-A 1209, was previously approved by EPA on July 23, 2002 (67 FR 48033) and contained just one general coating limit of 0.36 kg VOC/l. New Hampshire's revised rule includes eight coating categories each of which has limits for baked or air-dried coatings ranging from 0.275 kg to 0.420 kg VOC/l. These limits are consistent with the limits recommended in the EPA CTG for Metal Furniture Coatings (EPA-453/R-07-005, September 2007). While two specialty coating categories, pretreatment coatings and metallic coatings, have a higher limit (0.420 kg VOC/l (baked or air dried)) than the previous general coating limit, the new general use coating limit has been reduced from 0.36 kg to 0.275 kg VOC/l (baked or air dried). Since the general use coatings are applied more frequently than pretreatment and metallic coatings, fewer VOCs will be emitted in New Hampshire as a result of the new regulations. This approach is consistent with the EPA guidance memorandum entitled Approving SIP Revisions Addressing VOC RACT Requirements for Certain Coating Categories from Scott Mathias to Regional Air Division Directors dated March 17, 2011. Therefore, the revised rule satisfies the anti-back sliding requirements in Section 110(l) of the CAA. PART Env-A 1209 allows for controls by equivalent emissions limits expressed in terms of mass of VOC per volume of solids as applied or the use of add-on controls capable of achieving an overall VOC efficiency of 90 percent. The revised rule also requires facilities to use work practices that limit VOC emissions and minimize spills during material application, storage, containment, conveyance, and mixing. The rule also updates record keeping requirements and revises the definition of metal furniture coatings in accordance with EPA's Metal Furniture Coating CTG. Specifically, decorative, protective, or functional materials that consist only of protective oils for metal, acids, bases, or any combination of these substances are not considered metal furniture coatings. Additionally, stencil coatings, safety indicating coatings, solid film lubricants, electric-insulating and thermal conducting coatings, touch-up and repair coatings, and coating applications with hand-held aerosol cans are exempt

New Hampshire's Miscellaneous Metal Parts and Plastic Parts Coatings Rule, PART Env-A 1212, was previously approved by EPA on July 23, 2002 (67 FR 48033). The revised rule contains updated work practices, coating application methods, and recordkeeping requirements for all applicable facilities. While the regulation lists multiple types of coating applications methods, other coating application methods capable of achieving a transfer efficiency equivalent to, or better than, that provided by high-volume low-pressure (HVLP) spray application may also be used. The EPA CTG for Miscellaneous Metal and Plastic Parts Coatings (EPA-453/R-08-003, September 2008) defines transfer efficiency as “the percent of coating applied to the metal furniture component or product.” Additional control options permit equivalent emissions limits expressed in terms of mass of VOC per volume of solids as applied or the use of add-on controls capable of achieving an overall VOC efficiency of 90 percent.

The new coating limits generally follow the recommendations in EPA's CTG for Miscellaneous Metal and Plastic Parts Coating, with the exception of three coating categories. New Hampshire adopted higher coating limits than the CTG for extreme high gloss topcoat, other substrate antifoulant coating, and antifouling sealer/tire. For these three categories, New Hampshire reviewed industry data and determined that for purpose of functionality, cost, and VOC emissions, the alternative limits adopted for these three coating categories constitute RACT. New Hampshire's approach is consistent with the EPA guidance memorandum entitled Control Technique Guidelines for Miscellaneous Metal and Plastic Part Coatings—Industry Request for Reconsideration from Stephen Page to Air Branch Chiefs, Regions I-X, dated June 1, 2010. The applicability threshold for plastic parts coatings was tightened from 10 tons total potential emissions to 3 tons actual VOC emissions per 12-month period, before controls. New Hampshire's new VOC coating limits are also lower than most of the previously SIP-approved limits. Although some specialty coatings limits are higher than previous limits, since the general use coating limit is lower and these coatings are more frequently used, coupled with the fact that the revised rule's applicability is broader, the revised rule reduces VOC emissions and satisfies the anti-back sliding requirements in Section 110(l) of the CAA. This analysis is also consistent with the EPA guidance memorandum entitled Approving SIP Revisions Addressing VOC RACT Requirements for Certain Coating Categories.

New Hampshire's new PART Env-A 1214 Flat Wood Paneling is consistent with the recommendations for RACT found in EPA's CTG for Flat Wood Paneling Coatings (EPA-453/R-06-004, September 2006). This new regulation applies on or after January 1, 2016 to sources whose flat wood paneling coating operations have, before controls, combined actual emissions of 3 tons of VOC or more, during any consecutive 12-month period. Applicable sources are required to limit VOC emissions by one of the following methods: An add-on pollution control device with 90% efficiency; an emission limit of 350 grams of VOC per liter (g VOC/l) of solids; or an emission limit of 250 g VOC/l of material, excluding water and exempt compounds. The rule also requires record keeping and work practices for handling VOC-containing coatings, thinners, cleaning materials, and coatings-related waste materials.

New Hampshire's Rotogravure and Flexographic Printing Rule, PART Env-A 1215, was previously approved by EPA on July 23, 2002 (67 FR 48033). The revised rule is consistent with the recommendations for RACT found in EPA's CTG for Flexible Package Printing (EPA-453/R-06-003, September 2006). The revised rule adds compliance standards for any individual flexible-package printing press with a total potential to emit 25 tons of VOC or more per year on or after January 1, 2016, whereas the previous rule applied to only rotogravure and flexographic printing. Applicable flexible package printing sources are required to limit VOC emissions by one or more of the following techniques: Use of low-VOC content materials; averaging the VOC content of materials to meet low-VOC content standards; or operating add-on VOC pollution controls. The rule also requires record keeping and work practices for handling VOC-containing materials. Since New Hampshire's revised rule applies to more operations than the previously SIP-approved version, it satisfies the anti-back sliding requirements in Section 110(l) of the CAA.

New Hampshire's Offset Lithographic Printing and Letterpress Printing Rule, PART Env-A 1216, was previously approved by EPA on July 23, 2002 (67 FR 48033). The revised rule is consistent with the recommendations for RACT found in EPA's CTG for Offset Lithographic Printing and Letterpress Printing (EPA-453/R-06-002, September 2006). The applicability threshold of the rule was changed from 50 tons per year potential emissions to 3 tons per year actual emissions. The rule also now applies to letterpress printing operations, where it previously only applied to offset lithographic printing. All applicable facilities are required to maintain records and use work practices to reduce VOC emissions.¹ New Hampshire's revised rule satisfies the anti-back sliding requirements in Section 110(l) of the CAA, since it applies to more operations than the previously SIP-approved version of the rule.

¹ Env-A 1205.08 subjects all sources that fall under the requirements of Env-A 1200 to record keeping obligations in Env-A 900.

New Hampshire's new Fiberglass Boat Manufacturing Rule, PART Env-A 1219, is consistent with the recommendations for RACT found in EPA's CTG for Fiberglass Boat Manufacturing Materials (EPA-453/R-08-004, September 2008). This new regulation applies to fiberglass boat manufacturing operations that on or after January 1, 2016 have, before controls, combined actual emissions of 3 tons of VOC or more, during any consecutive 12-month period, from the use of gel coats, resins, and materials used to clean application equipment. Applicable sources are required to limit VOC emissions by one of the following prescribed techniques: Use of low-VOC content materials; averaging the VOC content of materials to meet low-VOC content standards; use of a facility-specific VOC mass emission limit; or the operation of VOC pollution control devices. The new regulation also specifies work practices to reduce VOC emissions during the application, storage, mixing, and conveyance of coatings, resins, and cleaning materials.

New Hampshire's new Miscellaneous Industrial Adhesives, PART Env-A 1220, is consistent with the recommendations for RACT found in EPA's CTG for Miscellaneous Industrial Adhesives (EPA-453/R-08-005, September 2008). The new regulation applies to miscellaneous industrial adhesive and adhesive primer application processes, including related cleaning activities with combined actual emissions of 3 tons of VOC or more, during any consecutive 12-month period on or after January 1, 2016. The use of industrial adhesives by sources regulated by another CTG category is exempt from the regulation. Applicable sources are required to limit their VOC emissions by using a combination of low-VOC adhesives, specified application methods, and add-on control equipment, or an overall control efficiency of 85%. The new regulation also specifies application methods, as well as work practices for waste and cleaning materials, to further limit VOC emissions from industrial adhesive activities.

New Hampshire's Industrial Cleaning Solvents Rule, PART Env-A 1221, is consistent with the recommendations for RACT found in EPA's CTG for Industrial Cleaning Solvents (EPA-453/R-06-001, September 2006). Previously, this rule only applied to cold cleaning, vapor degreasing, and conveyorized degreasing operations. New provisions were added to address the Industrial Cleaning Solvents CTG. These new provisions apply to sources that use organic solvents in their cleaning activities with actual emissions, before controls, of 3 tons or more during any consecutive 12-month period on or after January 1, 2016. The use of industrial cleaning solvents for certain specialty applications and sources regulated by another CTG category are exempt from the regulation. Applicable sources are required to limit VOC emissions by using cleaning solvents that contain no more than 50 g VOC/l or have a composite vapor pressure of 8.0 millimeters of mercury (mm Hg) at 20 degrees Celsius (with the exception of cold cleaning operations for which the rule prohibits the use of solvents having a vapor pressure of 1.0 mm Hg or greater at 20 degrees Celsius), or by using add-on control equipment. The work practices in the regulation minimize VOC emissions during the use, handling, storage, and disposal of cleaning solvents.

New Hampshire's SIP revision also includes numerous minor revisions such as chapter renumbering, updated citations, and references to the newly adopted regulations. These updates include PARTS Env-A 1201 through 1206, 1208, 1210, 1211, 1213, 1217, 1218, and 1222. Throughout Chapter Env-A 1200, the term “2011 effective date” is understood to mean June 1, 2011. PART Env-A 1205 RACT Procedures has been revised to include conducting a public hearing on proposed RACT orders, if requested, rather than always conducting a hearing. Additionally, where PART Env-A 1205 uses the term “weighted average” EPA interprets this to be the sum of the VOC emissions divided by the sum of the weights. In PART Env-A 1213.11, the formula for calculating “percentage reduction” is now defined in PART Env-A 800 Testing and Monitoring Procedures. PART Env-A 1217.07(d)(3) and (5) both reference “a,” “b,” and “c,” which EPA interprets as actually referencing “1,” “2,” and “3,” respectively.

New Hampshire's SIP revision also includes negative declarations for two CTGs: Automobile and Light-Duty Truck Assembly Coatings (EPA-453/R-08-006, September 2008); and Large Appliance Coatings (EPA-453/R-07-004, September 2007). NH DES based these negative declarations on periodic field inspections, information from their air permitting program, and a search by Standard Industrial Classification (SIC) and North American Industry Classification System (NAICS) code of databases maintained both by the NH DES and by the New Hampshire Manufacturers' Association. A survey was also made of facilities with reported SIC or NAICS codes indicating that they might conduct Large Appliance Coating operations. Upon questioning, it was determined that none of the facilities was subject to the CTG.

In summary, as noted above, EPA has reviewed New Hampshire's new and revised VOC regulations and found that they are consistent with the relevant CTGs. In addition, New Hampshire's process for determining the categories for which the state should make negative declarations was reasonable. Therefore, EPA concludes that New Hampshire has met the CAA requirement to adopt RACT for all the 2006, 2007, and 2008 CTGs.

V. Final Action

EPA is approving and incorporating into the SIP, New Hampshire's Chapter Env-A 1200, Volatile Organic Compounds (VOCs) Reasonably Available Control Technology (RACT), specifically, PART Env-A 1201 through PART Env-A 1222, as meeting RACT for the following CTG categories: Fiberglass boat manufacturing materials; flat wood paneling coatings; flexible package printing; industrial cleaning solvents; metal furniture coatings; miscellaneous industrial adhesives; miscellaneous metal parts and plastic parts coatings; offset lithographic printing and letterpress printing; and paper, film, and foil coatings. EPA is also approving New Hampshire's negative declarations for two categories: Automobile and light-duty truck assembly coatings; and large appliance coatings. New Hampshire has, therefore, met the CAA requirement to adopt RACT for all of the 2006, 2007, and 2008 CTGs.

The EPA is publishing this action without prior proposal because the Agency views this as a noncontroversial amendment and anticipates no adverse comments. However, in the proposed rules section of this Federal Register publication, EPA is publishing a separate document that will serve as the proposal to approve the SIP revision should relevant adverse comments be filed. This rule will be effective January 7, 2013 without further notice unless the Agency receives relevant adverse comments by December 10, 2012.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on January 7, 2013 and no further action will be taken on the proposed rule. Please note that if EPA receives adverse comment on an amendment, paragraph, or section of this rule and if that provision may be severed from the remainder of the rule, EPA may adopt as final those provisions of the rule that are not the subject of an adverse comment.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 7, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 25, 2012.
H. Curtis Spalding,
Regional Administrator, EPA New England.

Part 52 of chapter I, title 40 of the Code of Federal Regulations is amended as follows:

PART 52—[AMENDED]

1. The authority citation for part 52 continues to read as follows:

Authority: 42 U.S.C. 7401 et seq.

Subpart EE—New Hampshire

2. Section 52.1520 is amended by:

a. In paragraph (c), in the table titled “EPA-Approved New Hampshire Regulations”, by revising the entry for existing state citation Env-A 1200; and

b. In paragraph (e), in the table titled “New Hampshire Non Regulatory”, by adding a new entry for Negative Declarations at the end of the table.

The revised and added text reads as follows:

§ 52.1520 Identification of plan.

* * * * *

(c) EPA approved regulations.

EPA-Approved New Hampshire Regulations
State citation | Title/subject | State effective date | EPA approval date ¹ | Explanations
* * * * * * *
Env-A 1200 | Volatile Organic Compounds (VOCs) Reasonably Available Control Technology (RACT) | 05/26/11 | 11/8/12 [Insert Federal Register page number where the document begins] | Approved PART Env-A 1201 through 1222 for the following CTG categories: Fiberglass boat manufacturing materials; flat wood paneling coatings; flexible package printing; industrial cleaning solvent; metal furniture coatings; miscellaneous industrial adhesives; miscellaneous metal parts and plastic parts coatings; offset lithographic printing and letterpress printing; and paper, film, and foil coatings.
> | * * * * * * *
¹ In order to determine the EPA effective date for a specific provision listed in this table, consult the Federal Register notice cited in this column for the particular provision.

* * * * *

(e) Nonregulatory.

New Hampshire Non Regulatory
Name of non regulatory SIP provision | Applicable geographic or nonattainment area | State submittal date/effective date | EPA approved date ³ | Explanations
* * * * * * *
Negative Declarations included in New Hampshire's State Implementation Plan Revision for the 2006, 2007, and 2008 Control Techniques Guidelines | Statewide | 07/26/2011 | 11/8/12 [Insert Federal Register page number where the document begins] | Includes negative declarations for the following CTG categories: Large appliance coatings; and automobile and light-duty truck assembly coatings.
³ In order to determine the EPA effective date for a specific provision listed in this table, consult the Federal Register notice cited in this column for the particular provision.

* * * * *

[FR Doc. 2012-27217 Filed 11-7-12; 8:45 am]

BILLING CODE 6560-50-P